NUCLEAR REGULATORY COMMISSION

[Docket Nos. 50-456 and 50-457; NRC-2021-0200]

Constellation Energy Generation, LLC; Braidwood Station, Units 1 and 2

AGENCY: Nuclear Regulatory Commission.

ACTION: License amendment application; withdrawal by applicant.

SUMMARY: The U.S. Nuclear Regulatory Commission (NRC) has granted the request of Constellation Energy Generation, LLC, to withdraw its application dated August 2, 2021, as supplemented by letter dated June 6, 2022, for proposed amendments to Renewed Facility Operating License Nos. NPF-72 and NPF-77, issued to the licensee for operation of the Braidwood Station, Units 1 and 2, located in Will County, Illinois. The proposed amendments would have revised Technical Specification (TS) 3.7.9, “Ultimate Heat Sink [UHS]” for an inoperable UHS due to the average water temperature to allow utilization of existing margin in the design analysis to offset the increase in the TS UHS temperature. The proposed amendments also would have revised TS 3.7.9 Surveillance Requirement (SR) 3.7.9.2 to delete the temporary allowance for the UHS average water temperature of 102.8 degrees Fahrenheit (°F) until September 30, 2021.

DATES: December 22, 2022.

ADDRESSES: Please refer to Docket ID NRC-2021-0200 when contacting the NRC about the availability of information regarding this document. You may obtain publicly available information related to this document using any of the following methods:

• Federal Rulemaking Website: Go to https://www.regulations.gov and search for Docket ID NRC-2021-0200. Address questions about Docket IDs in Regulations.gov to Stacy Schumann; telephone: 301-415-0624; email: Stacy.Schumann@nrc.gov. For technical questions, contact the individual listed in the “For Further Information Contact” section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced is provided the first time that it is mentioned in this document.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

FOR FURTHER INFORMATION CONTACT: Joel S. Wiebe, Office of Nuclear Reactor Regulation, U.S. Nuclear Regulatory Commission, Washington DC 20555-0001; telephone: 301-415-6606, email: Joel.Wiebe@nrc.gov.

SUPPLEMENTARY INFORMATION: The NRC has granted the request by Constellation Energy Generation, LLC, (the licensee) to withdraw its August 2, 2021 (ADAMS Accession No. ML21214A331), as supplemented by letter dated June 6, 2022 (ADAMS Accession No. ML22157A438), application for proposed amendments to Renewed Facility Operating License Nos. NPF-72 and NPF-77 issued to the licensee for operation of the Braidwood Station, Units 1 and 2, located in Will County, Illinois.

The proposed amendments would have revised TS 3.7.9, “Ultimate Heat Sink [UHS]” for an inoperable UHS due to the average water temperature to allow utilization of existing margin in the design analysis to offset the increase in the TS UHS temperature. These amendments would have also revised TS 3.7.9 SR 3.7.9.2 to delete the temporary allowance for the UHS average water temperature of 102.8 °F until September 30, 2021.

On November 2, 2021, the NRC published in the Federal Register a notice (86 FR 60484) that the NRC would consider the amendment request.

Dated: December 19, 2022.
For the Nuclear Regulatory Commission.
Joel S. Wiebe,
Senior Project Manager, Licensing Projects Branch III, Division of Operating Reactor Licensing, Office of Nuclear Reactor Regulation.

[FR Doc. 2022-27894 Filed 12-21-22; 8:45 am]

BILLING CODE 7590-01-P